DEPARTMENT OF ENERGY

Federal Energy Regulatory Commission

[Docket No. IC24-9-000]

Commission Information Collection Activities (FERC-567); Consolidated Comment Request; Extension

Correction

In notice document 2024-05013, appearing on page 17453, in the issue of Monday, March 11, 2024, in first column, in the DATES section, “[INSERT DATE 60 days after date of publication in the Federal Register]” should read, “May 10, 2024.”

[FR Doc. C1-2024-05013 Filed 3-14-24; 8:45 am]

BILLING CODE 0099-10-D